DEPARTMENT OF LABOR

Occupational Safety and Health Administration

[Docket No. OSHA-2006-0040]

SGS North America, Inc.: Denial of Expansion of Recognition

AGENCY: Occupational Safety and Health Administration (OSHA), Labor.

ACTION: Notice.

SUMMARY: In this notice, OSHA announces the final decision to deny the expansion of the scope of recognition for SGS North America, Inc., as a Nationally Recognized Testing Laboratory (NRTL).

DATES: The expansion of the scope of recognition becomes effective on October 25, 2024.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-1911 or email robinson.kevin@dol.gov.

SUPPLEMENTARY INFORMATION:

I. Notice of Final Decision

OSHA hereby gives notice of the denial of the request for expansion of the scope of recognition of SGS North America, Inc., (SGS) as a NRTL. SGS requested the addition of two test standards to the NRTL scope of recognition. OSHA is denying that application.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition and for an expansion or renewal of this recognition, following requirements in appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including SGS, which details the NRTL's scope of recognition. These pages are available from the OSHA website at http://www.osha.gov/dts/otpca/nrtl/index.html.

SGS submitted an application to OSHA to expand recognition as a NRTL to include two additional test standards on September 1, 2021 (OSHA-2006-0040-0079). OSHA staff performed a detailed analysis of the application packet and reviewed other pertinent information. OSHA did not perform any on-site reviews in relation to this application.

OSHA published the preliminary notice announcing SGS's expansion application and OSHA's preliminary decision to deny the application in the Federal Register on August 6, 2024 (89 FR 63985). The agency requested comments by August 21, 2024, but it received no comments in response to this notice.

To obtain or review copies of all public documents pertaining to the SGS application, go to http://www.regulations.gov or contact the Docket Office, Occupational Safety and Health Administration, U.S. Department of Labor. Docket No. OSHA-2006-0040 contains all materials in the record concerning SGS's recognition. Contact the OSHA Docket Office at (202) 693-2350 (TTY (877) 889-5627) for assistance in locating docket submissions.

II. Final Decision and Order

OSHA staff examined SGS's expansion application and other pertinent information. Based on its review of this evidence, OSHA finds that the standards requested in the expansion application do not meet the requirements of 29 CFR 1910.7 for appropriate test standards or alternative test standards for the NRTL Program. OSHA, therefore, is proceeding with this final notice to deny SGS's request for expansion of the NRTL scope of recognition to include the test standards listed below in Table 1.

Table 1—Test Standards for Which OSHA Denies Inclusion in SGS's NRTL Scope of Recognition
Test standard | Test standard title
IEC 60335-2-23 | Household and Similar Electrical Appliances—Safety—Part 2-23: Particular Requirements for Appliances for Skin or Hair Care.
IEC 60335-2-30 | Household and Similar Electrical Appliances—Safety—Part 2-30: Particular Requirements for Room Heaters.

As explained in the preliminary decision (89 FR 63985), pursuant to the NRTL Program regulation, 29 CFR 1910.7, for each specified item of equipment or material to be listed, labeled or accepted, a NRTL must have the capability (including proper testing equipment and facilities, trained staff, written testing procedures, and calibration and quality control programs) to perform: (i) testing and examining of equipment and materials for workplace safety purposes to determine conformance with appropriate test standards; or (ii) experimental testing and examining of equipment and materials for workplace safety purposes to determine conformance with appropriate test standards or performance in a specified manner. § 1910.7(b)(1).

An “appropriate test standard” is defined in the NRTL Program regulation as a document which specifies the safety requirements for specific equipment or class of equipment and meets one of two alternative requirements. Either the document must be (1) recognized in the United States as a safety standard providing an adequate level of safety, and (2) compatible with and maintained current with periodic revisions of applicable national codes and installation standards and (3) developed by a standards developing organization under a method providing for input and consideration of views of industry groups, experts, users, consumers, governmental authorities, and others having broad experience in the safety field involved, or the document must be currently designated as an American National Standards Institute (ANSI) safety-designated product standard or an American Society for Testing and Materials (ASTM) test standard used for evaluation of products or materials. § 1910.7(c).

Notwithstanding the requirements in § 1910.7(b)(1), if a testing laboratory desires to use an alternative test standard (that is, a test standard that is not an appropriate test standard), then OSHA evaluates the proposed standard to determine whether it provides an adequate level of safety before it may be used. § 1910.7(d). If a test standard does not provide an adequate level of safety, it may not be used by a NRTL to perform testing or examining of equipment and materials for workplace safety purposes or experimental testing and examining of equipment and materials for workplace safety purposes.

The test standards requested in the expansion application, issued by the International Electrotechnical Commission (IEC), are not appropriate test standards under the NRTL program because they are not recognized in the United States as safety standards providing an adequate level of safety. To provide an adequate level of safety, these test standards would need to be evaluated for compliance with U.S. electrical safety requirements. The IEC develops standards that are broad technical safety solutions for electrical products, but this does not represent a complete safety standard for each member country. The process of adapting the IEC-based standard to a fully compliant U.S. national standard is typically conducted by a U.S.-based standards development organization (SDO), which considers the unique requirements for the U.S. market, along with the input and consideration of views of industry groups, experts, users, consumers, governmental authorities, and others having broad experience in the safety field involved (as set forth in § 1910.7(c)). This information-gathering process and evaluation has not been undertaken for the test standards in SGS's application (i.e., these test standards have not been evaluated for compliance with U.S. electrical safety requirements). Nor have these test standards been designated by ANSI or ASTM. Therefore, they do not meet the requirements for appropriate test standards under the NRTL program.

Nor are these test standards alternative test standards that may be used under the NRTL program to perform testing or examining of equipment and materials for workplace safety purposes or experimental testing and examining of equipment and materials for workplace safety purposes. Again, these test standards have not been determined to provide an adequate level of safety because they have not been evaluated for compliance with U.S. electrical safety requirements.

Pursuant to the authority in 29 CFR 1910.7, OSHA hereby denies the expanded scope of recognition of SGS as a NRTL as requested in the application identified in this notice.

III. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on October 18, 2024.
James S. Frederick,
Deputy Assistant Secretary of Labor for Occupational Safety and Health.

[FR Doc. 2024-24789 Filed 10-24-24; 8:45 am]

BILLING CODE 4510-26-P